DEPARTMENT OF HOMELAND SECURITY

Name Change From the Bureau of Citizenship and Immigration Services to U.S. Citizenship and Immigration Services

AGENCY: Department of Homeland Security.

ACTION: Notice.

SUMMARY: This Notice informs the public that the Department of Homeland Security (DHS) has changed the name of the Bureau of Citizenship and Immigration Services to U.S. Citizenship and Immigration Services (USCIS).

EFFECTIVE DATES: This Notice is effective October 13, 2004.

FOR FURTHER INFORMATION CONTACT: Richard A. Sloan, Director, Regulatory Management Division, U.S. Citizenship and Immigration Services, Department of Homeland Security, 111 Massachusetts Avenue, NW., Washington, DC 20529, Telephone (202) 616-7600.

SUPPLEMENTARY INFORMATION: The Department of Homeland Security (DHS) was established on Janurary 24, 2003, pursuant to the Homeland Security Act of 2002, Public Law 107-296 (HSA). DHS is the result of the reorganization of 22 Federal agencies, including the former Immigration and Naturalization Services (INS) from the Department of Justice (DOJ). Pursuant to section 451 of the HSA, the functions of the former INS were transferred from DOJ to DHS effective March 1, 2003, establishing among other DHS immigration components the Bureau of Citizenship and Immigration Services (BCIS). See 6 U.S.C. 451.

DHS has decided to change the name of this component from BCIS to U.S. Citizenship and Immigration Services (USCIS). Pursuant to section 872 (a)(2) of the HSA (6 U.S.C. 452(a)(2)), DHS is required to provide notice of the name change to appropriate congresional committees 60 days before the change will be effective. The Appropriate committees were notified of the name change on or before June 23, 2004. Therefore, pursuant to section 872 of the HSA, the change from BCIS to USCIS became official effective August 23, 2004.

This Notice informs the public that all official documents and future regulatory actions involving BCIS now will identify USCIS as the applicable DHS component, and all references to BCIS in existing documents and actions henceforth shall be construed as references to USCIS.

Dated: October 5, 2004.
Tom Ridge,
Secretary of Homeland Security.

[FR Doc. 04-23010 Filed 10-12-04; 8:45 am]

BILLING CODE 4410-10-Py